DEPARTMENT OF AGRICULTURE

Food Safety and Inspection Service

[Docket No. FSIS-2020-0029]

National Advisory Committee on Microbiological Criteria for Foods; Membership Nominations

AGENCY: Food Safety and Inspection Service, USDA.

ACTION: Notice; soliciting nominations.

SUMMARY: Pursuant to the provisions of the rules and regulations of the Department of Agriculture and the Federal Advisory Committee Act (FACA), the U.S. Department of Agriculture (USDA) is soliciting nominations for membership on the National Advisory Committee on Microbiological Criteria for Foods (NACMCF). There are 9 vacancies. Advisory Committee members serve a two-year term that may be renewed for two additional consecutive terms, at the discretion of the Secretary of Agriculture.

DATES: All materials must be received by November 9, 2020.

ADDRESSES: Nomination packages should be sent by email to john.jarosh@usda.gov or mailed to: Sonny Perdue, Secretary, U.S. Department of Agriculture, 1400 Independence Avenue SW, Washington, DC 20250, Attn: FSIS\OPHS\National Advisory Committee on Microbiological Criteria for Foods (John Jarosh).

FOR FURTHER INFORMATION CONTACT: John Jarosh, Designated Federal Officer, by telephone at 202-690-6128 or by email john.jarosh@usda.gov.

The Food Safety and Inspection Service (FSIS) invites interested persons to submit comments on this Federal Register notice. Comments may be submitted by either of the following methods:

• Federal eRulemaking Portal: This website (http://www.regulations.gov/) provides the ability to type short comments directly into the comment field on this web page or attach a file for lengthier comments. Follow the online instructions at that site for submitting comments.

• Mail, including CD-ROMS and hand or courier delivered items: Send to Docket Clerk, Department of Agriculture, Food Safety and Inspection Service, 1400 Independence Avenue SW, Mailstop 3758, Room 6065, Washington, DC 20250-3700 between 8:30 a.m. and 4:30 p.m., Monday through Friday.

Instructions: All items submitted by mail or electronic mail must include the Agency name and docket number FSIS-2020-0029. Comments received in response to this docket will be made available for public inspection and posted without change, including any personal information, to http://www.regulations.gov/.

Docket: For access to background documents or comments received, go to the FSIS Docket Room at Department of Agriculture, Food Safety and Inspection Service, 1400 Independence Avenue SW, Mailstop 3758, Room 6065, Washington, DC 20250-3700 between 8:30 a.m. and 4:30 p.m., Monday through Friday. All comments submitted in response to this notice, as well as background information used by FSIS in developing this document, will be available for public inspection in the FSIS Docket Room at the address listed above between 8:30 a.m. and 4:30 p.m., Monday through Friday.

SUPPLEMENTARY INFORMATION: USDA is seeking NACMCF nominees with scientific expertise in the fields of microbiology, epidemiology, food technology (food, clinical, and predictive), toxicology, risk assessment, infectious disease, biostatistics, and other related sciences. USDA is seeking nominations for NACMCF from persons in academia, industry, State governments, and the Federal Government, as well as all other interested persons with the required expertise.

USDA is also seeking nominations for one individual affiliated with a consumer group to serve on the NACMCF. This member will serve as a representative member to provide a consumer viewpoint to the Committee. This member will not be required to have a scientific background and will not be subject to a conflict of interest review.

Members can serve on only one USDA advisory Committee at a time. All nominees will undergo a USDA background check. With the exception of the consumer representative member, any member who is not a Federal government employee will be appointed to serve as a non-compensated special government employee (SGE). SGEs will be subject to appropriate conflict of interest statutes and standards of ethical conduct.

Applicants that are federally registered lobbyists will not be considered for USDA's NACMCF federal advisory Committee, if the position of appointment will serve in a Special Government Employee capacity.

Nominations for membership on the NACMCF must be addressed to the Secretary of Agriculture and accompanied by a cover letter addressing the nomination. Additionally, a resume or curriculum vitae and a completed USDA Advisory Committee Membership Background Information form AD-755 (available online at: https://www.ocio.usda.gov/document/ad-755) must be included with the nomination. The resume or curriculum vitae must be limited to five one-sided pages and should include educational background, expertise, and a list of select publications, if available, that confirm the nominee's expertise for the related work. Any submissions with more than the prescribed five one-sided pages in length will have only the first five pages reviewed.

A person may self-nominate, or a nomination can be made on behalf of someone else.

Background

The NACMCF was established in March 1988, in response to a recommendation in a 1985 report of the National Academy of Sciences Committee on Food Protection, Subcommittee on Microbiological Criteria, “An Evaluation of the Role of Microbiological Criteria for Foods.” The current charter for the NACMCF and other information about the Committee are available to the public for viewing on the FSIS website at: http://www.fsis.usda.gov/nacmcf.

The Committee provides scientific advice and recommendations to the Secretary of Agriculture and the Secretary of Health and Human Services concerning the development of microbiological criteria by which the safety and wholesomeness of food can be assessed. For example, one of the most recent efforts of the Committee is to provide the best scientific information available on Shiga Toxin producing E. coli, including providing recommendations on optimal detection and identification methodologies.

Appointments to the Committee will be made by the Secretary of Agriculture after consultation with the Secretary of Health and Human Services to ensure that recommendations made by the Committee take into account the needs of the diverse groups served by the USDA.

The full Committee expects to meet at least once a year by teleconference or in-person, and the meetings will be announced in the Federal Register.

The subcommittees will meet as deemed necessary by the chairperson through working group meetings in an open public forum. Subcommittees may also meet through teleconference or by computer-based conferencing (webinars). Subcommittees may invite technical experts to present information for consideration by the subcommittee. The subcommittee meetings will not be announced in the Federal Register; however, FSIS will announce the agenda and subcommittee working group meetings through the Constituent Update, available online at: http://www.fsis.usda.gov/cu.

NACMCF holds subcommittee meetings in order to accomplish the work of NACMCF; all subcommittee work is reviewed and approved during a public meeting of the full Committee, as announced in the Federal Register. All data and records available to the full Committee are expected to be available to the public after the full Committee has reviewed and approved the work of the subcommittee. Advisory Committee members are expected to attend all in-person meetings during the two-year term to ensure the smooth functioning of the advisory Committee. However, on rare occasions, attendance through teleconferencing may be permitted.

Members must be prepared to work outside of scheduled Committee and subcommittee meetings and may be required to assist in document preparation. Committee members serve on a voluntary basis; however, travel expenses and per diem reimbursements are available.

Regarding Nominees Who Are Selected

All SGE and Federal government employee nominees who are selected must complete the Office of Government Ethics (OGE) 450 Confidential Financial Disclosure Report before rendering any advice or prior to their first meeting. With the exception of the consumer representative Committee member, all Committee members will be reviewed pursuant to 18 U.S.C. 208 for conflicts of interest relating to specific NACMCF work charges, and financial disclosure updates will be required annually. Members subject to financial disclosure must report any changes in financial holdings requiring additional disclosure. OGE 450 forms are available on-line at: https://www2.oge.gov/web/oge.nsf/Confidential%20Financial%20Disclosure.

Additional Public Notification

FSIS will announce this Federal Register notice online through the FSIS web page located at http://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination: To file a complaint of discrimination Complete the USDA Program Discrimination Complaint Form, which may be accessed online at http://www.ocio.usda.gov/sites/default/files/docs/2012/Complain_combined_6_8_12.pdf, or write a letter signed by you or your authorized representative. Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on September 29, 2020.

Dated: September 29, 2020.
Cikena Reid,
Committee Management Officer, USDA.

[FR Doc. 2020-22293 Filed 10-7-20; 8:45 am]

BILLING CODE 3410-DM-P